DEPARTMENT OF TRANSPORTATION

Federal Aviation Administration

14 CFR Part 71

[Docket No. FAA-2015-7488; Airspace Docket No. 15-ASW-19]

Amendment of Class D and Class E Airspace and Revocation of Class E Airspace; Roswell, NM

AGENCY: Federal Aviation Administration (FAA), DOT.

ACTION: Final rule.

SUMMARY: This action modifies Class D airspace, Class E surface area airspace, and Class E airspace extending upward from 700 feet above the surface at Roswell, NM. This action is necessary due to advances Global Positioning System (GPS) capabilities and implementation of area navigation (RNAV) procedures at Roswell International Air Center, Roswell, NM. Additionally, this action removes Class E airspace designated as an extension at Roswell International Air Center. This action also updates the name and geographic coordinates of the airport and the Chisum VHF omnidirectional range collocate tactical air navigation (VORTAC) to coincide with the FAA's aeronautical database.

DATES: Effective 0901 UTC, April 27, 2017. The Director of the Federal Register approves this incorporation by reference action under Title 1, Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC, 20591; telephone: 202-267-8783. The Order is also available for inspection at the National Archives and Records Administration (NARA). For information on the availability of FAA Order 7400.11A at NARA, call 202-741-6030, or go to http://www.archives.gov/federal_register/code_of_federal-regulations/ibr_locations.html.

FAA Order 7400.11, Airspace Designations and Reporting Points, is published yearly and effective on September 15.

FOR FURTHER INFORMATION CONTACT: Jeffrey Claypool, Federal Aviation Administration, Operations Support Group, Central Service Center, 10101 Hillwood Parkway, Fort Worth, TX, 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D and Class E airspace at Roswell International Air Center, Roswell, NM.

History

On March 28, 2016, the FAA published in the Federal Register (81 FR 17116) Docket No. FAA-2015-7488, a notice of proposed rulemaking (NPRM) to modify Class D airspace, Class E surface area airspace, Class E airspace extending upward from 700 feet above the surface, and remove Class E airspace designated as an extension at Roswell International Air Center, Roswell, NM. Interested parties were invited to participate in this rulemaking effort by submitting written comments on the proposal to the FAA. Subsequent to publication, the FAA found that the geographic coordinates for the Chisum VORTAC needed to be adjusted to coincide with the FAA's aeronautical database. That adjustment has been incorporated in this action.

Class D and E airspace designations are published in paragraph 5000, 6002, 6004, and 6005, respectively, of FAA Order 7400.11A, dated August 3, 2016, and effective September 15, 2016, which is incorporated by reference in 14 CFR 71.1. The Class D and E airspace designations listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This amendment to Title 14, Code of Federal Regulations (14 CFR) part 71 modifies Class E airspace extending upward from 700 feet above the surface at Roswell International Air Center, Roswell, NM. Cancellation of the standard instrument approach procedures (SIAPs), advances in GPS capabilities, and implementation of RNAV procedures at Roswell International Air Center (formerly Roswell Industrial Air Center), is necessary for the safety and management of IFR operations at the airport.

The class E airspace area extending upward from 700 feet above the surface at the airport is reduced from a 12.7-mile radius to a 7.4-mile radius, with the extension to the northwest being reduced from 4 miles to 1.7 miles each side of the Chisum VORTAC 278° radial extending from the 7.4-mile radius to 11 miles vice 23 miles; and the extension to the northeast being removed. Additionally, the Class E airspace designated as an extension at the airport is removed as it is no longer needed. All modifications to the Class E airspace are in accordance with airspace requirements specified in FAA Joint Order 7400.2K. The airport name and geographic coordinates are amended in the existing Class D and Class E airspace areas to be in concert with the FAA's aeronautical database. The geographic coordinates for the Chisum VORTAC noted in Class E airspace extending upward from 700 feet above the surface are also adjusted.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (Air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 5000 Class D Airspace.

* * * * *

ASW NM D Roswell, NM [Amended]

Roswell International Air Center, NM

(Lat. 33°18′06″ N., long. 104°31′50″ W.)

That airspace extending upward from the surface to and including 6,200 feet MSL within a 5-mile radius of Roswell International Air Center. This Class D airspace area is effective during the specific dates and times established in advance by a Notice to Airmen. The effective date and time will thereafter be continuously published in the Airport/Facility Directory.

Paragraph 6002 Class E Airspace Designated as Surface Areas.

* * * * *

ASW NM E2 Roswell, NM [Amended]

Roswell International Air Center, NM

(Lat. 33°18′06″ N., long. 104°31′50″ W.)

Within a 5-mile radius of Roswell International Air Center. This Class E airspace area is effective during the specific dates and times established in advance by a Notice to Airmen. The effective date and time will thereafter be continuously published in the Airport/Facility Directory.

Paragraph 6004 Class E Airspace Areas Designated as an Extension to a Class D or Class E Surface Area.

* * * * *

ASW NM E4 Roswell, NM [Removed]

Paragraph 6005 Class E Airspace Areas Extending Upward From 700 feet or More Above the Surface of the Earth.

* * * * *

ASW NM E5 Roswell, NM [Amended]

Roswell International Air Center, NM

(Lat. 33°18′06″ N., long. 104°31′50″ W.)

Chisum VORTAC

(Lat. 33°20′15″ N., long. 104°37′16″ W.)

That airspace extending upward from 700 feet above the surface within a 7.4-mile radius of Roswell International Air Center, and within 1.7 miles each side of the Chisum VORTAC 278° radial extending from the 7.4-mile radius of the airport to 11 miles northwest of the airport.

Issued in Fort Worth, Texas, on December 28, 2016.
Thomas L. Lattimer,
Acting Manager, Operations Support Group, ATO Central Service Center.

[FR Doc. 2017-00184 Filed 1-9-17; 8:45 am]

BILLING CODE 4910-13-P